DEPARTMENT OF ENERGY

Federal Energy Regulatory Commission

Combined Notice of Filings #1

Take notice that the Commission received the following electric rate filings:

Docket Numbers: ER109-1997-000; ER10-1997-001.

Applicants: Midwest Independent Transmission System Operator, Inc.

Description: Informational Response of The Midwest Independent Transmission System Operator, Inc.

Filed Date: 3/14/13.

Accession Number: 20130314-5023.

Comments Due: 5 p.m. ET 4/4/13.

Docket Numbers: ER10-2763-007; ER10-2732-007; ER10-2733-007; ER10-2734-007; ER10-2736-007; ER10-2737-007; ER10-2741-007; ER10-2749-007; ER12-2492-003; ER12-2493-003; ER10-2752-007; ER12-2494-003; ER12-2495-003; ER12-2496-003.

Applicants: Bangor Hydro Electric Company, Emera Energy Services, Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC.

Description: Errata to February 27, 2013 Notice of Change in Status of Bangor Hydro Electric Company, et al.

Filed Date: 3/13/13.

Accession Number: 20130313-5188.

Comments Due: 5 p.m. ET 4/3/13.

Docket Numbers: ER13-1078-000.

Applicants: PacifiCorp.

Description: NW Energy AMPS 230 kV Line 46 MW Construction. Agreement to be effective 5/13/2013.

Filed Date: 3/13/13.

Accession Number: 20130313-5087.

Comments Due: 5 p.m. ET 4/3/13.

Docket Numbers: ER13-1079-000.

Applicants: J.P. Morgan Commodities Canada Corporation.

Description: Revision to market-based rate tariff to be effective 3/14/2013.

Filed Date: 3/13/13.

Accession Number: 20130313-5093.

Comments Due: 5 p.m. ET 4/3/13.

Docket Numbers: ER13-1081-000.

Applicants: Just Energy New York Corp.

Description: Market-Based Rates application to be effective 3/14/2013.

Filed Date: 3/13/13.

Accession Number: 20130313-5160.

Comments Due: 5 p.m. ET 4/3/13.

Docket Numbers: ER13-1082-000.

Applicants: Granite State Electric Company.

Description: Borderline Sales Tariff Update to be effective 11/1/2012.

Filed Date: 3/13/13.

Accession Number: 20130313-5170.

Comments Due: 5 p.m. ET 4/3/13.

Docket Numbers: ER13-1083-000.

Applicants: Union Atlantic Electricity.

Description: Union Atlantic MBR Application to be effective 5/14/2013.

Filed Date: 3/14/13.

Accession Number: 20130314-5022.

Comments Due: 5 p.m. ET 4/4/13.

Docket Numbers: ER13-1084-000.

Applicants: Southwest Power Pool, Inc.

Description: 2532 EDF Renewable Development, Inc. GIA to be effective 2/15/2013.

Filed Date: 3/14/13.

Accession Number: 20130314-5032.

Comments Due: 5 p.m. ET 4/4/13.

Docket Numbers: ER13-1085-000.

Applicants: BE Alabama LLC.

Description: Revision to market-based rate schedule to be effective 3/15/2013.

Filed Date: 3/14/13.

Accession Number: 20130314-5055.

Comments Due: 5 p.m. ET 4/4/13.

Docket Numbers: ER13-1086-000.

Applicants: BE Allegheny LLC.

Description: Revisions to market-based rate tariff to be effective 3/15/2013.

Filed Date: 3/14/13.

Accession Number: 20130314-5056.

Comments Due: 5 p.m. ET 4/4/13.

Docket Numbers: ER13-1087-000.

Applicants: BE CA LLC.

Description: Revisions to market-based rate tariff to be effective 3/15/2013.

Filed Date: 3/14/13.

Accession Number: 20130314-5057.

Comments Due: 5 p.m. ET 4/4/13.

Docket Numbers: ER13-1088-000.

Applicants: AES Creative Resources, L.P.

Description: AES Creative Resources Tariff Cancellation to be effective 3/15/2013.

Filed Date: 3/14/13.

Accession Number: 20130314-5058.

Comments Due: 5 p.m. ET 4/4/13.

Docket Numbers: ER13-1089-000.

Applicants: BE Ironwood LLC.

Description: Revisions to market-based rate tariff to be effective 3/15/2013.

Filed Date: 3/14/13.

Accession Number: 20130314-5059.

Comments Due: 5 p.m. ET 4/4/13.

Docket Numbers: ER13-1090-000.

Applicants: BE KJ LLC.

Description: Revisions to market-based rate tariff to be effective 3/15/2013.

Filed Date: 3/14/13.

Accession Number: 20130314-5060.

Comments Due: 5 p.m. ET 4/4/13.

Docket Numbers: ER13-1091-000.

Applicants: AES Eastern Energy, L.P.

Description: AES Eastern Energy Tariff Cancellation to be effective 3/15/2013.

Filed Date: 3/14/13.

Accession Number: 20130314-5061.

Comments Due: 5 p.m. ET 4/4/13.

Docket Numbers: ER13-1092-000.

Applicants: AEE2, L.L.C.

Description: AEE2 MBR Tariff Cancellation to be effective 3/15/2013.

Filed Date: 3/14/13.

Accession Number: 20130314-5071.

Comments Due: 5 p.m. ET 4/4/13.

Docket Numbers: ER13-1093-000.

Applicants: AEE2, L.L.C.

Description: AEE2 ES Westover Lease Cancellation to be effective 3/15/2013.

Filed Date: 3/14/13.

Accession Number: 20130314-5080.

Comments Due: 5 p.m. ET 4/4/13.

Docket Numbers: ER13-1094-000.

Applicants: Midwest Independent Transmission System Operator, Inc.

Description: Midwest Independent Transmission System Operator, Inc. submits tariff filing per 35.13(a)(2)(iii: Revisions to 13.1_Term to be effective 6/30/2013.

Filed Date: 3/14/13.

Accession Number: 20130314-5101.

Comments Due: 5 p.m. ET 4/4/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 14, 2013.
Nathaniel J. Davis, Sr.,
Deputy Secretary.

[FR Doc. 2013-06515 Filed 3-20-13; 8:45 am]

BILLING CODE 6717-01-P